DEPARTMENT OF HEALTH AND HUMAN SERVICES

Centers for Disease Control and Prevention

Advisory Committee to the Director (ACD), Centers for Disease Control and Prevention

In accordance with section 10(a)(2) of the Federal Advisory Committee Act (Pub. L. 92-463), the Centers for Disease Control and Prevention (CDC) announces the following meeting of the aforementioned committee.

Time and Date: 8:30 a.m.-3:15 p.m., April 12, 2010.

Place: CDC, Thomas R. Harkin Global Communications Center, Kent “Oz” Nelson Auditorium, 1600 Clifton Road, NE., Atlanta, GA 30333.

Status: Open to the public, limited only by the space available. The meeting room accommodates approximately 150 people. The public is welcome to participate during the public comment periods. The public comment periods are tentatively scheduled for 10:50 a.m. to 11:05 a.m. and 2:30 p.m. to 2:45 p.m.

Purpose: The Advisory Committee to the Director, CDC shall advise the Secretary, HHS, and the Director, CDC on policy issues and broad strategies that will enable CDC to fulfill its mission of protecting health through health promotion, prevention, and preparedness. The committee recommends ways to prioritize CDC's activities, improve results, and address health disparities. It also provides guidance to help CDC work more effectively with its various private and public sector constituents to make health protection a practical reality.

Matters To Be Discussed: The ACD, CDC will discuss and approve recommendations by the Ethics Subcommittee on “Ethical Considerations for Decision Making Regarding Allocation of Mechanical Ventilators During a Severe Influenza Pandemic.” Other agenda items will include updates from the ACD, CDC subcommittees; CDC organizational improvement; the CDC budget (including mitigating State cuts); an overview of winnable battles for CDC; and the need for establishment of additional ACD, CDC subcommittees to address agency needs and priorities.

Agenda items are subject to change as priorities dictate.

Contact Person for More Information: Louis Salinas, M.P.A., Designated Federal Officer, ACD, CDC, 1600 Clifton Road, NE., M/S D-14, Atlanta, Georgia 30333. Telephone 404/639-7000. E-mail: GHickman@cdc.gov. The deadline for notification of attendance is April 7, 2010.

The Director, Management Analysis and Services Office, has been delegated the authority to sign Federal Register notices pertaining to announcements of meetings and other committee management activities, for both the Centers for Disease Control and Prevention and the Agency for Toxic Substances and Disease Registry.

Dated: March 18, 2010.
Elaine L. Baker,
Director, Management Analysis and Services Office, Centers for Disease Control and Prevention (CDC).

[FR Doc. 2010-6590 Filed 3-24-10; 8:45 am]

BILLING CODE 4163-18-P